DEPARTMENT OF COMMERCE

Foreign-Trade Zones Board

[B-83-2021]

Foreign-Trade Zone (FTZ) 7—Mayaguez, Puerto Rico; Authorization of Production Activity; CooperVision Manufacturing PR LLC (Disposable Contact Lenses), Juana Diaz, Puerto Rico

On December 16, 2021, CooperVision Manufacturing PR LLC submitted a notification of proposed production activity to the FTZ Board for its facility within FTZ 7, in Juana Diaz, Puerto Rico.

The notification was processed in accordance with the regulations of the FTZ Board (15 CFR part 400), including notice in the Federal Register inviting public comment (86 FR 73730, December 28, 2021). On April 15, 2022, the applicant was notified of the FTZ Board's decision that no further review of the activity is warranted at this time. The production activity described in the notification was authorized, subject to the FTZ Act and the FTZ Board's regulations, including Section 400.14.

Dated: April 15, 2022.
Andrew McGilvray,
Executive Secretary.

[FR Doc. 2022-08418 Filed 4-19-22; 8:45 am]

BILLING CODE 3510-DS-P